DEPARTMENT OF THE INTERIOR

Fish and Wildlife Service

Information Collection To Be Submitted to the Office of Management and Budget (OMB) for Approval Under the Paperwork Reduction Act (PRA) for the Boating Infrastructure Grant Program; Correction

AGENCY: Fish and Wildlife Service, Interior.

ACTION: Notice; Correction.

SUMMARY: We published a notice on October 24, 2000 (65 FR 63606) with a date for the receipt of comments on or after December 26, 2000. The corrected date should be on or before December 26, 2000.

DATES: We will accept comments on this notice on or before December 26, 2000.

ADDRESSES: The public must make comments and suggestions directly to the Office of Management and Budget, Office of Regulatory Affairs, 725 17th Street NW, Washington, DC 20503; and Rebecca Mullin, U.S. Fish and Wildlife Service Information Collection Officer, 4401 North Fairfax Drive, Room 222, Arlington, VA 22203.

FOR FURTHER INFORMATION CONTACT: Steve Farrell, (703) 358-2156, Division of Federal Aid, U.S. Fish and Wildlife Service.

SUPPLEMENTARY INFORMATION: On October 24, 2000, we published a notice requesting comments on Information Collection for approval under the Paperwork Reduction Act for the Boating Infrastructure Grant Survey Program. The DATES caption stated that comments should be submitted on or after December 26, 2000. The correct date for accepting comments from the public is on or before December 26, 2000.

Accordingly, in FR Doc. 00-27109 published at 65 FR 63606 on October 24, 2000, on page 63607, in column 1, correct the DATES caption to read as follows:

DATES: Interested parties must submit comments on or before December 26, 2000.

Dated: November 9, 2000.
Rebecca A. Mullin,
Information Collection Officer, Fish and Wildlife Service.

[FR Doc. 00-29308 Filed 11-15-00; 8:45 am]

BILLING CODE 4310-55-P